ENVIRONMENTAL PROTECTION AGENCY

[EPA-HQ-OPPT-2017-0026; FRL-9959-39]

Statutory Requirements for Substantiation of Confidential Business Information (CBI) Claims Under the Toxic Substances Control Act (TSCA); Delay of Effective Date

AGENCY: Environmental Protection Agency (EPA).

ACTION: Delay of effective date.

SUMMARY: In accordance with the Presidential directive as expressed in the memorandum of January 20, 2017, from the Assistant to the President and Chief of Staff, entitled “Regulatory Freeze Pending Review”, this action delays until March 21, 2017, the effective date of the Federal Register Notice entitled “Statutory Requirements for Substantiation of Confidential Business Information (CBI) Claims Under the Toxic Substances Control Act (TSCA)”, published in the Federal Register on January 19, 2017 (82 FR 6522, FRL-9958-34).

DATES: This action is effective February 21, 2017. The effective date of the Federal Register Notice entitled “Statutory Requirements for Substantiation of Confidential Business Information (CBI) Claims Under the Toxic Substances Control Act (TSCA)”, published in the Federal Register on January 19, 2017 (82 FR 6522, FRL-9958-34), is delayed from March 20, 2017 to a new effective date of March 21, 2017.

FOR FURTHER INFORMATION CONTACT: Scott M. Sherlock, Attorney Advisor, Environmental Assistance Division, Office of Pollution Prevention and Toxics, Environmental Protection Agency, 1200 Pennsylvania Ave. NW., Washington, DC 20460-0001; telephone number: (202) 564-8257; email address: sherlock.scott@epa.gov.

SUPPLEMENTARY INFORMATION: EPA bases this action on the Presidential directive as expressed in the memorandum of January 20, 2017, from the Assistant to the President and Chief of Staff, entitled “Regulatory Freeze Pending Review”. That memorandum directed the heads of Executive Departments and Agencies to temporarily postpone for sixty days from the date of the memorandum the effective dates of all regulations (defined in the January 20, 2017 memorandum to include “an interpretation of a statutory or regulatory issue”) that had been published in the Federal Register but had not yet taken effect. The Federal Register Notice entitled “Statutory Requirements for Substantiation of Confidential Business Information (CBI) Claims Under the Toxic Substances Control Act (TSCA)” is subject to the effective date delay. The new effective date for this action is March 21, 2017.

If deemed appropriate, EPA may consider delaying the effective date of this action beyond March 21, 2017.

Authority: 15 U.S.C. 2601 et seq.

Dated: February 13, 2017.
Wendy Cleland-Hamnett,
Acting Assistant Administrator, Office of Chemical Safety and Pollution Prevention.

[FR Doc. 2017-03352 Filed 2-17-17; 8:45 am]

BILLING CODE 6560-50-P